DEPARTMENT OF DEFENSE

Department of the Army, Corps of Engineers

Notice of Availability of the Draft Environmental Impact Statement for the Proposed Upper Llagas Creek Project Flood Protection Project in Santa Clara County, California

AGENCY: U.S. Army Corps of Engineers, DoD.

ACTION: Notice of availability.

SUMMARY: The U.S. Army Corps of Engineers (USACE) is issuing this notice to advise the public that a Draft Environmental Impact Statement (Draft EIS) has been completed and is available for review and comment.

DATES: In accordance with the National Environmental Policy Act (NEPA), we have filed the Draft EIS with the U.S. Environmental Protection Agency (EPA) for publication of their notice of availability in the Federal Register. The EPA notice officially starts the 45-day review period for this document. It is the goal of the USACE to have this notice published on the same date as the EPA notice. However, if that does not occur, the date of the EPA notice will determine the closing date for comments on the Draft EIS. Comments on the Draft EIS must be submitted to the address below under Further Contact Information and must be received no later than 5 p.m. Pacific Standard Time, Monday, February 8, 2016.

Scoping: A Scoping Meeting was held in Morgan Hill, California on October 25th, 2012, to gather information for the preparation of the Draft EIS. Public notices will be posted in Santa Clara County libraries, and emailed and air-mailed to current stakeholder lists with notification of the public meetings and requesting input and comments on issues that should be addressed in the Draft EIS.

A public meeting for this Draft EIS will be held on Wednesday, January 20, 2016 from 6:30 to 8:00 p.m. at the Morgan Hill Community and Cultural Center, El Toro Room, 17000 Monterey Street, Morgan Hill, California 95037. The purpose of this public meeting is to provide the public the opportunity to comment, either orally or in writing, on the Draft EIS. Notification of the meeting will be announced following same format as the Scoping Meetings announcements.

ADDRESSES: The Draft EIS can be viewed online at: http://www.spn.usace.army.mil/missions/regulatory/regulatoryoverview.aspx

Copies of the Draft EIS are also available for review at the following libraries:

Santa Clara Valley Library District, Morgan Hill Library, 660 West Main Ave., Morgan Hill, CA 95037

Santa Clara Valley Library District, Gilroy Library, 350 W. Sixth Street, Gilroy, CA 95020

San Jose Public Library, King Library, 150 E. San Fernando St., San Jose, CA 95112

FOR FURTHER INFORMATION CONTACT: Ms. Tori White, Acting Chief, Regulatory Division, U.S. Army Corps of Engineers, San Francisco District, 1455 Market Street, 16th Floor, San Francisco, California 94103-1398, Telephone: 415-503-6768, Fax: 415-503-6795.

SUPPLEMENTARY INFORMATION: The Santa Clara Valley Water District (SCVWD) proposes to construct flood conveyance features and to deepen and widen Upper Llagas Creek in Santa Clara County, California. The action area identified in the Draft EIS includes 6.1 miles of the mainstem of Llagas, 2.8 miles along West Little Llagas Creek; and, 3.4 miles along a tributary of Llagas Creek, known as East Little Llagas Creek. An additional 1.6 miles of new channel would also be constructed along West Little Llagas Creek to Llagas Creek. Additionally, wetland creation and stream restoration also requires construction in waters of the US and includes filling an abandoned quarry pit, Lake Silveira to create wetlands and reestablishing flows in 2000 linear of feet of Llagas Creek. Construction activities would include channel modifications (e.g. widening and deepening), installation/replacement grade control structures, constructing or replacing culverts, installing maintenance roads and access ramps, upgrading bridge crossings and construction of a diversion channel. As proposed, the project would result in approximately 44.82 acres of temporary and 3.81 acres of permanent impacts to waters of the United States. The SCVWD would need to obtain a Department of the Army permit pursuant to Section 404 of the Clean Water Act from the USACE. This Draft Environmental Impact Statement evaluates the environmental effects of 5 alternatives including the, the Applicant's Proposed Action (Tunnel Alternative), NRCS Alternative, Culvert/Channel Alternative, Reach 6 Bypass Alternative, and the no action alternative.

Dated: December 18, 2015.
Tori White,
Acting Chief, Regulatory Division.

[FR Doc. 2015-32458 Filed 12-23-15; 8:45 am]

BILLING CODE 3720-58-P